SMALL BUSINESS ADMINISTRATION

[License No. 07/07-0117]

Eagle Fund III-A, L.P.; Notice Seeking Exemption Under Section 312 of the Small Business Investment Act, Conflicts of Interest

Notice is hereby given that Eagle Fund III-A, L.P., 101 S. Hanley Road, Suite 1250, St. Louis, Missouri 63105, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Eagle Fund III-A, L.P., proposes to provide debt and equity financing to Oliver Street Dermatology Holdings, LLC, 5310 Harvest Hill Road, Suite 229, Dallas, TX 75230.

The financing was contemplated to provide capital that contributes to the growth and overall sound financing of Oliver Street Dermatology Holdings, LLC. The financing is brought within the purview of § 107.730(a)(1) and § 107.730(d)(1) of the Regulations because, Oliver Street Dermatology Holdings, LLC is considered an Associate of Eagle Fund III-A, L.P., as defined in Sec.105.50 of the regulations due to common ownership.

Notice is hereby given that any interested person may submit written comments on the transaction within fifteen days of the date of this publications to the Associate Administrator for Investment and Innovation, U.S. Small Business Administration, 409 Third Street SW., Washington, DC 20416.

Javier E. Saade,
Associate Administrator, Office of Investment and Innovation.

[FR Doc. 2014-07669 Filed 4-7-14; 8:45 am]

BILLING CODE P